DEPARTMENT OF COMMERCE

National Oceanic and Atmospheric Administration

RIN 0648-XG680

Pacific Fishery Management Council; Public Meeting

AGENCY: National Marine Fisheries Service (NMFS), National Oceanic and Atmospheric Administration (NOAA), Commerce.

ACTION: Notice of public meeting (webinar).

SUMMARY: The Ecosystem and Highly Migratory Species (HMS) Subcommittees of the Pacific Fishery Management Council's (Pacific Council's) Scientific and Statistical Committee (SSC) will hold a meeting via webinar to review analyses of drivers of albacore distribution and availability to fisheries in the California Current. The webinar meeting is open to the public.

DATES: The SSC Ecosystem and HMS Subcommittees webinar will be held Monday, January 7, 2019, from 1 p.m. to 4 p.m. Pacific Standard Time or until business for the day has been completed.

ADDRESSES: The SSC's Ecosystem and HMS Subcommittees' meeting will be held by webinar. To attend the webinar, (1) join the meeting by visiting this link https://global.gotomeeting.com/join/666423461, (2) enter your name and email address (required). After logging into the webinar, please (1) dial this TOLL number: 1-872-240-3412 (not a toll-free number); (2) enter the attendee phone audio access code: 666-423-461; and (3) then enter your audio phone pin (shown after joining the webinar). NOTE: We have disabled mic/speakers as an option and require all participants to use a telephone or cell phone to participate. Technical Information and System Requirements: PC-based attendees are required to use Windows® 7, Vista, or XP; Mac®-based attendees are required to use Mac OS® X 10.5 or newer; Mobile attendees are required to use iPhone®, iPad®, Android™ phone or Android tablet (See the https://www.gotomeeting.com/meeting/ipad-iphone-android-apps). You may send an email to Mr. Kris Kleinschmidt at Kris.Kleinschmidt@noaa.gov or contact him at (503) 820-2280, extension 411 for technical assistance. A public listening station will also be available at the Pacific Council office.

Council address: Pacific Fishery Management Council, 7700 NE Ambassador Place, Suite 101, Portland, OR 97220.

FOR FURTHER INFORMATION CONTACT: Mr. John DeVore, Staff Officer, Pacific Fishery Management Council; telephone: (503) 820-2413.

SUPPLEMENTARY INFORMATION: The purpose of the SSC Ecosystem and HMS Subcommittees' meeting is to review analyses of drivers of albacore distribution and availability to fisheries in the California Current. The review will focus on how these analyses may inform future reports to the Pacific Council, including reports from National Oceanic and Atmospheric Administration's California Current Integrated Ecosystem Assessment Team.

No management actions will be decided by the SSC's Ecosystem and HMS Subcommittees. The SSC Ecosystem and HMS Subcommittees members' role will be development of recommendations and reports for consideration by the SSC and Pacific Council at the March Pacific Council meeting in Vancouver, WA.

Although nonemergency issues not contained in the meeting agendas may be discussed, those issues may not be the subject of formal action during these meetings. Action will be restricted to those issues specifically listed in this notice and any issues arising after publication of this notice that require emergency action under Section 305(c) of the Magnuson-Stevens Fishery Conservation and Management Act, provided the public has been notified of the intent of the SSC Groundfish Subcommittee to take final action to address the emergency.

Special Accommodations

These meetings are physically accessible to people with disabilities. Requests for sign language interpretation or other auxiliary aids should be directed to Mr. Kris Kleinschmidt, (503) 820-2411, at least 10 days prior to the meeting date.

Dated: December 18, 2018.
Tracey L. Thompson,
Acting Deputy Director, Office of Sustainable Fisheries, National Marine Fisheries Service.

[FR Doc. 2018-27806 Filed 12-21-18; 8:45 am]

BILLING CODE 3510-22-P